DEPARTMENT OF HEALTH AND HUMAN SERVICES

Delegation of Authority

Notice is hereby given that I have delegated to the Assistant Secretary for Aging the authorities vested in the Secretary of Health and Human Services under Section 1701(a)(3)(A-B), Section 1701(a)(4), and Section 1703(a)(4) of the Public Health Service Act (42 U.S.C. 300u(a)(3)(A-B), 300u(a)(4), and 300u-2(a), as amended), as they pertain to the exercise of the funds transferred by the Secretary to the Administration on Aging under the “Prevention and Wellness Fund” of the American Recovery and Reinvestment Act of 2009, Public Law 111-5 (Feb. 17, 2009) to carry out evidence-based clinical and community-based prevention and wellness strategies through chronic disease self-management programs targeted to improving the health of seniors under the “Communities Putting Prevention to Work” initiative.

These authorities may be redelegated.

Exercise of these authorities is concurrent to and does not supplant existing delegations of authority from the Secretary. Exercise of these authorities shall be in accordance with established policies, procedures, guidelines, and regulations as prescribed by the Secretary.

I hereby affirm and ratify any actions taken by the Assistant Secretary for Aging or his or her subordinates, which involved the exercise of the authorities delegated herein prior to the effective date of this delegation. This delegation is effective immediately.

Dated: November 12, 2009.
Kathleen Sebelius,
Secretary.

[FR Doc. E9-27863 Filed 11-19-09; 8:45 am]

BILLING CODE 4150-03-P